DEPARTMENT OF TRANSPORTATION

Federal Aviation Administration

14 CFR Part 71

[Docket No. FAA-2015-1869; Airspace Docket No. 15-AGL-9]

Establishment of Class E Airspace; Newberry, MI

AGENCY: Federal Aviation Administration (FAA), DOT.

ACTION: Final rule; correction.

SUMMARY: This action corrects an error in the legal description of a final rule published in the Federal Register of September 24, 2015, that establishes Class E airspace at the Newberry VHF Omni-Directional Range/Distance Measuring Equipment (VOR/DME), Newberry, MI. The legal description noted exclusionary language for Federal airways and Canadian airspace not required for this airspace.

DATES: Effective date: 0901 UTC, December 10, 2015. The Director of the Federal Register approves this incorporation by reference action under 1 Code of Federal Regulations, Part 51, subject to the annual revision of FAA Order 7400.9 and publication of conforming amendments.

FOR FURTHER INFORMATION CONTACT: Raul Garza, Jr., Central Service Center, Operations Support Group, Federal Aviation Administration, Southwest Region, 10101 Hillwood Parkway., Fort Worth, TX 76177; telephone 817-222-5874.

SUPPLEMENTARY INFORMATION:

History

On September 24, 2015, a final rule was published in the Federal Register establishing Class E airspace at the Newberry VOR/DME, Newberry, MI (80 FR 57522) Docket No. FAA-2015-1869. Subsequent to publication, the FAA found that the exclusionary language for Federal airways and Canadian airspace noted in the airspace description is not required and, therefore, is removed.

Final Rule Correction

Accordingly, pursuant to the authority delegated to me, in the Federal Register of September 24, 2015, (80 FR 57522) FR Doc. 2015-23987, on page 57523, column 2, beginning on line 26, remove “, excluding that airspace within Federal airways and within Canadian airspace”.

Issued in Fort Worth, TX, on November 10, 2015.
Robert W. Beck,
Manager, Operations Support Group, ATO Central Service Center.

[FR Doc. 2015-29704 Filed 11-23-15; 8:45 am]

BILLING CODE 4910-13-P